ENVIRONMENTAL PROTECTION AGENCY

[FRL 9935-91-Region 1]

Proposed CERCLA Administrative Cost Recovery Settlement: Peabody Street Asbestos Superfund Site, Salem, Massachusetts

AGENCY: Environmental Protection Agency (EPA).

ACTION: Notice of proposed settlement; request for public comments.

SUMMARY: Notice is hereby given of a proposed administrative settlement for recovery of past response costs concerning the Peabody Street Asbestos Superfund Site, located in Salem, Essex County, Massachusetts with the settling parties Massachusetts Electric Company and National Grid USA. The proposed settlement requires the settling parties to pay $850,000, plus interest, to the Hazardous Substance Superfund. In exchange, EPA will provide the settling parties a covenant not to sue. The settlement has been approved by the Environmental and Natural Resources Division of the United States Department of Justice. For 30 days following the date of publication of this notice, the Agency will receive written comments relating to the settlement for recovery of response costs. The Agency will consider all comments received and may modify or withdraw its consent to this cost recovery settlement if comments received disclose facts or considerations which indicate that the settlement is inappropriate, improper, or inadequate. The Agency's response to any comments received will be available for public inspection at the Salem Public Library, 370 Essex Street, Salem, MA 01970 and at the Environmental Protection Agency—Region I, 5 Post Office Square, Suite 100, Boston, MA 02109-3912.

DATES: Comments must be submitted by November 20, 2015.

ADDRESSES: Comments should be addressed to Kevin Pechulis, Enforcement Counsel, U.S. Environmental Protection Agency, 5 Post Office Square, Suite 100 (OES04-2), Boston, MA 02109-3912 (Telephone No. 617-918-1612) and should reference the Peabody Street Asbestos Superfund Site, U.S. EPA Docket No: 01-2015-0052.

FOR FURTHER INFORMATION CONTACT: A copy of the proposed settlement may be obtained from Stacy Greendlinger, Office of Site Remediation and Restoration, U.S. Environmental Protection Agency, Region I, 5 Post Office Square, Suite 100 (OSRR02-2), Boston, MA 02109-3912, (617) 918-1403; greendlinger.stacy@epa.gov. Technical questions can also be directed to Stacy Greendlinger. For legal questions, Kevin Pechulis, Office of Environmental Stewardship, U.S. Environmental Protection Agency, 5 Post Office Square, Suite 100 (OES04-3), Boston, MA 02109-3912, (617) 918-1612; Pechulis.kevin@epa.gov.

SUPPLEMENTARY INFORMATION: This proposed administrative settlement for recovery of past response costs concerning the Peabody Street Asbestos Superfund Site, located in Salem, Essex County, Massachusetts is made in accordance with Section 122(i) of the Comprehensive Environmental Response, Compensation, and Liability Act, as amended (“CERCLA”), 42 U.S.C. 9622(i). The settling parties to this administrative settlement include: Massachusetts Electric Company and National Grid USA. The settlement includes a covenant not to sue the settling parties pursuant to Section 106 of CERCLA, 42 U.S.C. 9606, and Section 107(a) of CERCLA, 42 U.S.C. 9607(a). For 30 days following the date of publication of this notice, the Agency will receive written comments relating to the settlement for recovery of response costs (Section XIV of the proposed settlement).

Dated: October 7, 2015.
Nancy Barmakian,
Acting Director, Office of Site Remediation and Restoration.

[FR Doc. 2015-26781 Filed 10-20-15; 8:45 am]

BILLING CODE 6560-50P